DEPARTMENT OF HEALTH AND HUMAN SERVICES

National Institutes of Health

Center for Scientific Review; Amended Notice Meeting

Notice is hereby given of a change in the meeting of the Pathobiology of Kidney Disease Study Section, October 11, 2007, 8 a.m. to October 12, 2007, 5 p.m., Hotel Rouge, 1315 16th Street, NW., Washington, DC 20036 which was published in the Federal Register on September 21, 2007, 72 FR 54051-54054.

The meeting will be held one day only—October 11, 2007, 8 a.m. to 6 p.m. The meeting location remains the same. The meeting is closed to the public.

Dated: October 2, 2007.
Jennifer Spaeth,
Director, Office of Federal Advisory Committee Policy.

[FR Doc. 07-4993 Filed 10-9-07; 8:45 am]

BILLING CODE 4140-01-M